ENVIRONMENTAL PROTECTION AGENCY

[FRL-7495-9]

Determination of the Waste Isolation Pilot Plant's Compliance With Applicable Federal Environmental Laws for the Period 2000 to 2002

AGENCY: Environmental Protection Agency (EPA).

ACTION: Notice.

SUMMARY: Based on documentation submitted by the U.S. Department of Energy (DOE) for the Waste Isolation Pilot Plant (WIPP), the U.S. Environmental Protection Agency (EPA or “we”) determined that between 2000 and 2002, DOE operated the WIPP facility in compliance with applicable Federal statutes, regulations, and permit requirements designated in Section 9(a)(1) of the WIPP Land Withdrawal Act, as amended. The Secretary of Energy was notified of the determination via a letter from EPA Administrator Christine Todd Whitman dated May 2, 2003.

We made this determination under the authority of Section 9 of the WIPP Land Withdrawal Act (WIPP LWA). (Pub. L. Nos. 102-579 and 104-201.) Section 9(a)(1) of the WIPP LWA requires that, as of the date of the enactment of the WIPP LWA, DOE shall comply with respect to WIPP with; regulations for the management and storage of radioactive waste (40 CFR part 191, subpart A); the Clean Air Act; the Solid Waste Disposal Act; the Safe Drinking Water Act; the Toxic Substances Control Act; the Comprehensive Environmental Response, Compensation, and Liability Act; and all other applicable Federal laws pertaining to public health and safety or the environment. Section 9(a)(2) of the WIPP LWA requires DOE biennially to submit to EPA documentation of continued compliance with the laws, regulations, and permit requirements set forth in section 9(a)(1). (DOE must also submit similar documentation of compliance with the Solid Waste Disposal Act to the State of New Mexico.) Section 9(a)(3) requires the Administrator of EPA to determine on a biennial basis, following the submittal of documentation of compliance by the Secretary of DOE, whether the WIPP is in compliance with the pertinent laws, regulations, and permit requirements, as set forth at section 9(a)(1).

We determined that for the period 2000 to 2002, the DOE-submitted documentation showed continued compliance with 40 CFR Part 191, subpart A, the Clean Air Act, the Safe Drinking Water Act, the Toxic Substances Control Act, and the Comprehensive Environmental Response, Compensation, and Liability Act. With respect to other applicable Federal laws pertaining to public health and safety or the environment, as required by section 9(a)(1)(G), DOE's documentation also indicates that DOE was in compliance with the Clean Water Act, the Federal Insecticide, Fungicide, and Rodenticide Act (FIFRA), and certain statutes under the jurisdiction of the Department of Interior.

This determination is not directly related to, or a part of, our certification decision regarding whether the WIPP complies with EPA's disposal regulations for transuranic radioactive waste at 40 CFR part 191.

FOR FURTHER INFORMATION CONTACT: Nick Stone; telephone number: (214) 665-7226; address: WIPP Project Officer, Mail Code 6PD-N, U.S. Environmental Protection Agency, Region 6, 1445 Ross Avenue, Dallas, TX 75202.

Materials related to this determination have been placed in docket A-98-49, item II-B2-14, located at the U.S. Environmental Protection Agency, Air and Radiation Docket, Attn: Docket A-98-49, EPA Docket Center (EPA/DC), EPA West, Mail Code 6102T, 1200 Pennsylvania Ave., NW., Washington, DC, 20460. The docket is open for public inspection from 8 a.m. until 5:30 p.m., Monday through Friday, except on Federal holidays. A reasonable fee may be charged for photocopying services.

Dated: May 2, 2003.
Christine Todd Whitman,
Administrator.

[FR Doc. 03-11525 Filed 5-8-03; 8:45 am]

BILLING CODE 6560-50-P